DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project Title: Evaluation of the National Healthy Start Program (New).

Background: The National Healthy Start Program, funded through the Health Resources and Services Administration's (HRSA) Maternal and Child Health Bureau (MCHB), was developed in 1991 with the goal of reducing infant mortality disparities in high-risk populations through community-based interventions. The program originally began as a 5-year demonstration project within 15 communities that had infant mortality rates 1.5 to 2.5 times above the national average. The National Healthy Start Program has since expanded in size and mission to include 102 grantees across the Nation emphasizing a community-based, culturally competent approach to the delivery of care for women and their babies. MCHB seeks to conduct a cross-site evaluation of all Healthy Start grantees to document the accomplishments made by the National Healthy Start Program.

Purpose: The purpose of the survey is to collect consistent data on the services and activities of all 102 Healthy Start grantees. The data collected though this survey will be used to:

• Evaluate the grantees' performance and progress toward achieving short-term and long-term goals;

• Evaluate the relationship of performance and progress to implementation features of Healthy Start Program components;

• Assist MCHB in determining on a national level where technical assistance may be needed to improve program performance, set future priorities for program activities, and contribute to the overall strategic planning activities of MCHB; and

• Provide foundation data for future measurement of the initiative's long-term impact.

Respondents: The project directors of the Healthy Start grants will be the respondents for this data collection activity. The estimated response burden is as follows:

| Number of respondents | Responses per respondent | Total responses | Average hours per respondent | Total hour burden
Healthy Start Grantee Web Survey | 102 | 1 | 102 | 4.0 | 408
Total | 102 | 1 | 102 | 4.0 | 408

E-mail comments to paperwork@hrsa.gov or mail to the HRSA Reports Clearance Officer, Room 10-33, Parklawn Building, 5600 Fishers Lane, Rockville, MD 20857. Written comments should be received within 60 days of this notice.

Dated: April 20, 2010.
Sahira Rafiullah,
Director, Division of Policy and Information Coordination.

[FR Doc. 2010-9974 Filed 4-28-10; 8:45 am]

BILLING CODE 4165-15-P